DEPARTMENT OF LABOR

Labor Advisory Committee for Trade Negotiations and Trade Policy

AGENCY: Bureau of International Labor Affairs, Labor.

ACTION: Announcement of meeting of the Labor Advisory Committee for Trade Negotiations and Trade Policy.

SUMMARY: The Labor Advisory Committee for Trade Negotiations and Trade Policy will meet from 9:00 a.m. to 11:00 a.m. Eastern Standard Time on September 17, 2024.

ADDRESSES: U.S. Department of Labor, Secretary's Conference Room, 200 Constitution Ave. NW, Washington, DC.

FOR FURTHER INFORMATION CONTACT: Anne M. Zollner, Designated Federal Official and Division Chief, Office of Trade and Labor Affairs, Office of Trade and Labor Affairs, Bureau of International Labor Affairs, Department of Labor, Frances Perkins Building, Room S-5317, 200 Constitution Ave. NW, Washington, DC 20210, telephone (202) 693-4890, zollner.anne@dol.gov.

SUPPLEMENTARY INFORMATION: The Labor Advisory Committee for Trade Negotiations and Trade Policy consults with and makes recommendations to the Secretary of Labor and the United States Trade Representative on general policy matters concerning labor and trade negotiations, operations of any trade agreement once entered into, and other matters arising in connection with the administration of the trade policy of the United States.

During the meeting, the Committee will review and discuss current issues that influence U.S. trade policy. The Committee will also discuss potential U.S. negotiating objectives and bargaining positions in current and anticipated trade negotiations. Pursuant to 19 U.S.C. 2155(f)(2)(A), the meeting will be concern matters the disclosure of which would seriously compromise the Government's negotiating objectives or bargaining positions. Therefore, the meeting is exempt from the requirements of subsections (a) and (b) of sections 10 and 11 of the Federal Advisory Committee Act (relating to open meetings, public notice, public participation, and public availability of documents). 5 U.S.C. app. Accordingly, the meeting will be closed to the public.

Signed at Washington, DC, this 15th day of August 2024.
Thea M. Lee,
Deputy Undersecretary, Bureau of International Affairs.

[FR Doc. 2024-18667 Filed 8-20-24; 8:45 am]

BILLING CODE 4510-28-P